NATIONAL SCIENCE FOUNDATION

Proposal Review Panel for Cyberinfrastructure; Notice of Meeting

In accordance with the Federal Advisory Committee Act (Pub. L. 92-463, as amended), the National Science Foundation (NSF) announces the following meeting:

Name and Committee Code: Proposal Review Panel for the Office of Advanced Cyberinfrastructure—IRIS—HEP (Princeton University) Site Visit (#1185).

Date and Time:

February 27, 2020; 8:30 a.m.-6:30 p.m.

February 28, 2020; 8:30 a.m.-5:00 p.m.

Place: S212 Institute at IRIS-HEP, 1 Nassau Hall, Princeton University, Princeton, NJ 08544.

Type Of Meeting: Part-open.

Contact Persons: Dr. Vipin Chaudhary, Program Director, Office of Advanced Cyberinfrastructure (OAC) vipchaud@nsf.gov; Room E10455; and Bogdan Mihaila, Program Director, MPS/PHY bmihaila@nsf.gov, Room W 9241; National Science Foundation, 2415 Eisenhower Avenue, Alexandria, VA 22314; Telephone: (703) 292-3316.

Purpose of Meeting: Site visit to provide an evaluation of the progress of the Institute for Research and Innovation in Software in High-Energy Physics (IRIS-HEP) project at the host site for the Office of Advanced Infrastructure and the Division of Physics at the National Science Foundation.

Agenda: To review and evaluate the IRIS-HEP operations during the Design Phase of the project.

Reason for Closing: The project being reviewed includes information of a proprietary or confidential nature, including technical information; financial data, such as salaries; and personal information concerning individuals associated with the project. These matters are exempt under 5 U.S.C. 552b(c), (4) and (6) of the Government in the Sunshine Act.

Dated: January 22, 2020.
Crystal Robinson,
Committee Management Officer.

2020 NSF Site Visit to the S2I2 Institute at IRIS-HEP

Princeton University, Princeton, NJ 08544

Thursday, February 27, 2020, Jadwin Hall

Coffee and Pastries—8:30 a.m., Open

Executive Session—8:45 a.m., Closed

IRIS-HEP Director Report on IRIS-HEP Program and Activities—9:00 a.m., Open

Science Presentations (SIs ¹ or PSIs ²)—10:00 a.m., Open

¹ SI—Senior Investigator.

² SI—Participating Senior Investigator.

Lunch (with Fellows/Postdocs/Students)—12:00 p.m., Closed

Science Presentations (SIs or PSIs)—1:00 p.m., Open

Postdoc Presentations—2:00 p.m., Open

Executive Session to formulate queries—4:00 p.m., Closed

Poster Session—5:00 p.m., Open

Panel and NSF Staff Dinner—6:30 p.m., Closed

Friday, February 28, 2020, Fine Hall

Coffee and Pastries—8:30 a.m., Open

Response to Panel queries—9:00 a.m., Closed

Meet with Physics Depart and University Administrators—10:30 a.m., Closed

Executive Session (Lunch)—12:00 Noon, Closed

Closeout. IRIS-HEP Director (PI) & Executive Board (Co-PIs) 2:00 p.m., Closed

Complete Report 2:30 p.m., Closed

Adjourn 5:00 p.m., Closed

[FR Doc. 2020-01317 Filed 1-24-20; 8:45 am]

BILLING CODE 7555-01-P